DEPARTMENT OF AGRICULTURE

Agricultural Marketing Service

7 CFR Part 905

[Docket No. FV03-905-2 IFR]

Oranges, Grapefruit, Tangerines, and Tangelos Grown in Florida and Imported Grapefruit; Removing All Seeded Grapefruit Regulations, Relaxation of Grade Requirements for Valencia and Other Late Type Oranges, and Removing Quality and Size Regulations on Imported Seeded Grapefruit

Correction

In rule document 03-22948 beginning on page 53021 in the issue of Tuesday, September 9, 2003, make the following correction:

§905.306 [Corrected]

On page 53024, in §905.306(a), the table should read as follows:

Table I
Variety | Regulation period | Minimum grade | Minimum diameter (inches)
(1) | (2) | (3) | (4)
* * * * * * *
Valencia and other late type | August 1 June 14 | U.S. No. 1 | 2 8/16
| June 15 July 31 | U.S. No. 2, External U.S. No. 1, Internal | 2 8/16
* * * * * * *

[FR Doc. C3-22948 Filed 10-14-03; 8:45 am]

BILLING CODE 1505-01-D

DEPARTMENT OF DEFENSE

GENERAL SERVICES ADMINISTRATION

NATIONAL AERONAUTICS AND SPACE ADMINISTRATION

48 CFR Part 39

[FAR Case 2003-008]

RIN 9000-AJ74

Federal Acquisition Regulation; Share-in-Savings Contracting

Correction

In proposed rule document 03-24855 beginning on page 56613 in the issue of Wednesday, October 1, 2003 make the following corrections:

39.301 [Corrected]

1. On page 56615, in the first column, in section 39.301, in the seventh line, “(i)” should read “(1)”.

2. On the same page, in the same column, in the same section, in the 11th line, “(ii)” should read “(2)”.

39.304 [Corrected]

3. On the same page, in the second column, after section 39.304(a), in the first line, “(5)” should read “(b) ”.

[FR Doc. C3-24855 Filed 10-14-03; 8:45 am]

BILLING CODE 1505-01-D

RAILROAD RETIREMENT BOARD

Computer Matching and Privacy Protection Act of 1998; Notice of RRB Records Used in Computer Matching

Correction

In notice document 03-24312 beginning on page 55665 in the issue of Friday, September 26, 2003 make the following corrections:

1. On page 55666, in the second column, in the first paragraph, in the fifth line, “OMB” should read “OPM”.

2. On the same page, in the same column, in the same paragraph, in the 11th line from the bottom, “OMB” should read “OPM”.

[FR Doc. C3-24312 Filed 10-14-03; 8:45 am]

BILLING CODE 1505-01-D